DEPARTMENT OF HOMELAND SECURITY

Federal Emergency Management Agency

[Docket ID FEMA-2019-0002; Internal Agency Docket No. FEMA-B-1950]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before October 30, 2019.

ADDRESSES: The Preliminary FIRM, and where applicable, the FIS report for each community are available for inspection at both the online location https://www.fema.gov/preliminaryfloodhazarddata and the respective Community Map Repository address listed in the tables below. Additionally, the current effective FIRM and FIS report for each community are accessible online through the FEMA Map Service Center at https://msc.fema.gov for comparison.

You may submit comments, identified by Docket No. FEMA-B-1950, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://www.fema.gov/preliminaryfloodhazarddata and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Larimer County, Colorado and Incorporated Areas
Project: 18-08-0037S Preliminary Date: March 8, 2019
Town of Berthoud | Town Hall, 807 Mountain Avenue, Berthoud, CO 80513.
Town of Johnstown | Town Hall, 450 South Parish Avenue, Johnstown, CO 80534.
Unincorporated Areas of Larimer County | Larimer County Courthouse Offices Building, 200 West Oak Street, Fort Collins, CO 80521.
Citrus County, Florida and Incorporated Areas
Project: 13-04-1877S Preliminary Date: September 29, 2018
City of Crystal River | City Hall, 123 Northwest U.S. Highway 19, Crystal River, FL 34428.
Unincorporated Areas of Citrus County | Citrus County Government Building, 3600 West Sovereign Path, Suite 111, Lecanto, FL 34461.
Hernando County, Florida and Incorporated Areas
Project: 13-04-1877S Preliminary Date: August 24, 2018
City of Weeki Wachee | City Hall, 6131 Commercial Way, Weeki Wachee, FL 34606.
Unincorporated Areas of Hernando County | Hernando County Zoning Division, 789 Providence Boulevard, Brooksville, FL 34601.
Hillsborough County, Florida and Incorporated Areas
Project: 13-04-1877S Preliminary Date: October 26, 2018
City of Tampa | Construction Services Center, 1400 North Boulevard, Tampa, FL 33607.
Unincorporated Areas of Hillsborough County | Hillsborough County Public Works Department, 601 East Kennedy Boulevard, 22nd Floor, Tampa, FL 33602.
Manatee County, Florida and Incorporated Areas
Project: 13-04-1877S Preliminary Date: November 30, 2018
City of Anna Maria | City Hall, 10005 Gulf Drive, Anna Maria, FL 34216.
City of Bradenton | City Hall, 101 Old Main Street West, Bradenton, FL 34205.
City of Bradenton Beach | City Hall, 107 Gulf Drive North, Bradenton Beach, FL 34217.
City of Holmes Beach | City Hall, 5801 Marina Drive, Holmes Beach, FL 34217.
City of Palmetto | Building Department, 601 17th Street West, Palmetto, FL 34221.
Town of Longboat Key | Town Hall, 501 Bay Isles Road, Longboat Key, FL 34228.
Unincorporated Areas of Manatee County | Manatee County Building and Development Services Department, 1112 Manatee Avenue West, 4th Floor, Bradenton, FL 34205.

[FR Doc. 2019-16404 Filed 7-31-19; 8:45 am]

BILLING CODE 9110-12-P